DEPARTMENT OF THE INTERIOR

National Park Service

60 Day Notice of Intention to Request Clearance of Collection of Information; Opportunity for Public Comment

AGENCY: National Park Service, Rocky Mountain National Park, Department of the Interior.

ACTION: Notice and request for comments.

SUMMARY: The National Park Service (NPS) is seeking to gather information from residents of Colorado with respect to their acceptance of and preferences for different elk and vegetation management alternatives possible in Rocky Mountain National Park (RMNP). The information sought will also determine acceptability of specific techniques to achieve the objectives of these different alternatives. The information gathered is to be used in developing an elk and vegetation management plan for RMNP, as well as an Environmental Impact Statement on the plan. To gather this information, the NPS is proposing to survey Colorado residents regarding their attitudes towards elk and vegetation management issues facing the Park.

| Estimated numbers of Responses | Burden hours
Rocky Mountain National Park Regional Resident Survey | 400 | 200

Under provisions of the Paperwork Reduction Act of 1995 and 5 CFR part 1320, Reporting and Record Keeping Requirements, the National Park Service is soliciting comments on the need for gathering the information in the proposed survey. The NPS also is asking for comments on the practical utility of the information being gathered; the accuracy of the burden hour estimate; ways to enhance the quality, utility, and clarity of the information to be collected; and ways to minimize the burden to respondents, including use of automated information collection techniques or other forms of information technology.

The NPS goal in conducting these surveys is to determine Colorado residents' acceptance and preferences for different management alternatives that are possible in RMNP.

DATES: Public comments will be accepted on or before February 12, 2001.

Send comments to: Michael J. Manfredo, Human Dimensions in Natural Resources Unit, College of Natural Resources, Colorado State University, Fort Collins, CO 80523.

FOR FURTHER INFORMATION CONTACT: Michael J. Manfredo. Voice: 970-491-6591, e-mail: manfredo@cnr.colostate.edu.

SUPPLEMENTARY INFORMATION: Titles: Public preferences for elk vegetation management in Rocky Mountain National Park: Regional Resident Survey.

Bureau Form Number: None.

OMB Number: To be requested.

Expiration Date: To be requested.

Type of Request: Request for new clearance.

Description of Need: The National Park Service needs information assessing the acceptability of different overall management alternatives for elk and vegetation management in RMNP as well as the acceptability of specific management techniques to achieve the objectives of the different alternatives.

Automated Data Collection: At the present time there is no automated way to gather this information because it includes asking Colorado residents their acceptance and preferences regarding different elk and vegetation management alternatives that are possible in RMNP.

Description of Respondents: Persons residing in Colorado.

Estimated Average Number of Respondents: 400.

Estimated Average Number of Responses: Each respondent will respond only one time, so the number of responses will be the same as the number of respondents.

Estimated Average Burden Hours Per Response: 30 minutes.

Frequency of Response: 1 time per respondent.

Estimated Annual Reporting Burden: 200 hours.

Dated: December 11, 2000.
Leonard E. Stowe,
Acting Information Collection Clearance Officer, WASO Administrative Program Center, National Park Service.

[FR Doc. 00-31912 Filed 12-13-00; 8:45 am]

BILLING CODE 4310-70-M